DEPARTMENT OF HEALTH AND HUMAN SERVICES

Food and Drug Administration

[Docket No. FDA-2021-N-0973]

Revocation of Three Authorizations of Emergency Use of In Vitro Diagnostic Devices for Detection and/or Diagnosis of COVID-19; Availability

AGENCY: Food and Drug Administration, HHS.

ACTION: Notice.

SUMMARY: The Food and Drug Administration (FDA) is announcing the revocation of the Emergency Use Authorizations (EUAs) (the Authorizations) issued to Abbott Diagnostics Scarborough, Inc. (Abbott) for the BinaxNOW COVID-19 Ag 2 Card, and Standard BioTools, Inc. (Standard) for the Advanta Dx SARS-CoV-2 RT-PCR Assay and Advanta Dx COVID-19 EASE Assay. FDA revoked these Authorizations under the Federal Food, Drug, and Cosmetic Act (FD&C Act). The revocations, which include an explanation of the reasons for each revocation, are reprinted in this document.

DATES: The Authorization for the BinaxNOW COVID-19 Ag 2 Card is revoked as of January 31, 2023. The Authorizations for the Advanta Dx SARS-CoV-2 RT-PCR Assay and Advanta Dx COVID-19 EASE Assay are revoked as of February 1, 2023.

ADDRESSES: Submit written requests for a single copy of the revocations to the Office of Counterterrorism and Emerging Threats, Food and Drug Administration, 10903 New Hampshire Ave., Bldg. 1, Rm. 4338, Silver Spring, MD 20993-0002. Send one self-addressed adhesive label to assist that office in processing your request or include a fax number to which the revocations may be sent. See the SUPPLEMENTARY INFORMATION section for electronic access to the revocations.

FOR FURTHER INFORMATION CONTACT: Jennifer Ross, Office of Counterterrorism and Emerging Threats, Food and Drug Administration, 10903 New Hampshire Ave., Bldg. 1, Rm. 4332, Silver Spring, MD 20993-0002, 301-796-8510 (this is not a toll-free number).

SUPPLEMENTARY INFORMATION:

I. Background

Section 564 of the FD&C Act (21 U.S.C. 360bbb-3) as amended by the Project BioShield Act of 2004 (Pub. L. 108-276) and the Pandemic and All-Hazards Preparedness Reauthorization Act of 2013 (Pub. L. 113-5) allows FDA to strengthen the public health protections against biological, chemical, nuclear, and radiological agents. Among other things, section 564 of the FD&C Act allows FDA to authorize the use of an unapproved medical product or an unapproved use of an approved medical product in certain situations. On March 31, 2021, FDA issued an EUA to Abbott for the BinaxNOW COVID-19 Ag 2 Card, subject to the terms of the Authorization. Notice of the issuance of this Authorization was published in the Federal Register on July 23, 2021 (86 FR 39040), as required by section 564(h)(1) of the FD&C Act. On August 25, 2020, FDA issued an EUA to Standard (then known as Fluidigm Corp.) for the Advanta Dx SARS-CoV-2 RT-PCR Assay, subject to the terms of the Authorization. Notice of the issuance of this Authorization was published in the Federal Register on November 20, 2020 (85 FR 74346), as required by section 564(h)(1) of the FD&C Act. On February 7, 2022, FDA issued an EUA to Standard (then known as Fluidigm Corp.) for the Advanta Dx COVID-19 EASE Assay, subject to the terms of the Authorization. Notice of the issuance of this Authorization was published in the Federal Register on July 22, 2022 (87 FR 43877), as required by section 564(h)(1) of the FD&C Act. Subsequent revisions to the Authorizations were made available on FDA's website. The authorization of a device for emergency use under section 564 of the FD&C Act may, pursuant to section 564(g)(2) of the FD&C Act, be revoked when the criteria under section 564(c) of the FD&C Act for issuance of such authorization are no longer met (section 564(g)(2)(B) of the FD&C Act), or other circumstances make such revocation appropriate to protect the public health or safety (section 564(g)(2)(C) of the FD&C Act).

II. EUA Revocation Requests

On January 20, 2023, FDA received a request from Abbott for the revocation of, and on January 31, 2023, FDA revoked, the Authorization for the BinaxNOW COVID-19 Ag 2 Card. Because Abbott requested FDA revoke the EUA for the BinaxNOW COVID-19 Ag 2 Card, FDA has determined that it is appropriate to protect the public health or safety to revoke this Authorization. On January 30, 2023, FDA received a request from Standard for the withdrawal of, and on February 1, 2023, FDA revoked, the Authorizations for the Advanta Dx SARS-CoV-2 RT-PCR Assay and Advanta Dx COVID-19 EASE Assay. Because Standard requested FDA withdraw the EUAs for the Advanta Dx SARS-CoV-2 RT-PCR Assay and Advanta Dx COVID-19 EASE Assay, FDA has determined that it is appropriate to protect the public health or safety to revoke these Authorizations.

III. Electronic Access

An electronic version of this document and the full text of the revocations are available on the internet at https://www.regulations.gov/.

IV. The Revocations

Having concluded that the criteria for revocation of the Authorizations under section 564(g)(2)(C) of the FD&C Act are met, FDA has revoked the EUAs for Abbott's BinaxNOW COVID-19 Ag 2 Card, and Standard's Advanta Dx SARS-CoV-2 RT-PCR Assay and Advanta Dx COVID-19 EASE Assay. The revocations in their entirety follow and provide an explanation of the reasons for each revocation, as required by section 564(h)(1) of the FD&C Act.

BILLING CODE 4164-01-P

Dated: March 7, 2023.
Lauren K. Roth,
Associate Commissioner for Policy.

[FR Doc. 2023-05053 Filed 3-10-23; 8:45 am]

BILLING CODE 4164-01-C